DEPARTMENT OF HEALTH AND HUMAN SERVICES

Centers for Disease Control and Prevention

Performance Review Board Members

AGENCY: Centers for Disease Control and Prevention (CDC), Department of Health and Human Services (HHS).

ACTION: Notice.

SUMMARY: The Centers for Disease Control and Prevention (CDC) located within the Department of Health and Human Services (HHS) is publishing the names of the Performance Review Board Members who are reviewing performance of Senior Executive Service (SES) members, title 42 (T42) executives, and Senior Level (SL) employees for Fiscal Year 2022.

FOR FURTHER INFORMATION CONTACT: Henry Greene, Team Chief, Executive and Scientific Resources Office, Human Resources Office, Centers for Disease Control and Prevention, 11 Corporate Square Blvd., Mailstop US11-2, Atlanta, Georgia 30341, Telephone (770) 488-1140.

SUPPLEMENTARY INFORMATION: Title 5, U.S.C. 4314(c) (4) of the Civil Service Reform Act of 1978, Public Law 95-454, requires that the appointment of Performance Review Board Members be published in the Federal Register. The following persons will serve on the CDC Performance Review Board, which will oversee the evaluation of performance appraisals of Senior Executive Service members for the Fiscal Year 2022 review period:

Bornstein, Joshua, Co-Chair

Bonander, Jason

Dulin, Stephanie

Durst, Kelley

Ethier, Kathleen, Co-Chair

Kuhnert, Wendi

Lindsey, Ronney L.

Peeples, Amy

Perry, Terrance

Philip, Celeste M

Tomlinson, Hank

Wharton, Melinda

Dated: August 29, 2022.
Angela K. Oliver,
Executive Secretary, Centers for Disease Control and Prevention.

[FR Doc. 2022-19177 Filed 9-2-22; 8:45 am]

BILLING CODE 4163-18-P